ENVIRONMENTAL PROTECTION AGENCY

[FRL-9734-9]

Gulf of Mexico Citizen Advisory Committee; Notice of Charter Renewal

AGENCY: Environmental Protection Agency.

ACTION: Notice of charter renewal.

SUMMARY: Notice is hereby given that the Environmental Protection Agency (EPA) has determined that in accordance with the provisions of the Federal Advisory Committee Act (FACA), 5 U.S.C. App.2, the Gulf of Mexico Citizen Advisory Committee (GMCAC) is a necessary committee which is in the public interest. Accordingly, the GMCAC is renewed for an additional two year period. The purpose of the GMCAC is to provide advice and recommendations to the Administrator of EPA on issues associated with plans to improve and protect the water quality and living resources of the Gulf of Mexico.

FOR FURTHER INFORMATION CONTACT: LaKeshia Robertson, Designated Federal Officer, Gulf of Mexico Program Office (Mail Code: EPA/GMPO), Stennis Space Center, MS 39529, Telephone (228) 688-1712, or robertson.lakeshia@epa.gov.

Dated: September 18, 2012.
Nancy K. Stoner,
Acting Assistant Administrator, Office of Water.

[FR Doc. 2012-23703 Filed 9-25-12; 8:45 am]

BILLING CODE 6560-50-P